COMMITTEE FOR PURCHASE FROM PEOPLE WHO ARE BLIND OR SEVERELY DISABLED

Procurement List; Additions and Deletions

AGENCY: Committee for Purchase from People Who Are Blind or Severely Disabled.

ACTION: Additions to and Deletions from Procurement List.

SUMMARY: This action adds to the Procurement List a product and services to be furnished by nonprofit agencies employing persons who are blind or have other severe disabilities, and deletes from the Procurement List a product and services previously furnished by such agencies.

EFFECTIVE DATE: February 23, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions

On September 13, November 29, and December 6, 2002, the Committee for Purchase From People Who Are Blind or Severely Disabled published notice (67 FR 58013, 71133, and 72640) of proposed additions to the Procurement List.

The following comments pertain to the Custodial Service, Walter Reed Army Medical Center.

Comments were received from a small disadvantaged business firm which holds a contract for other custodial services at Walter Reed Army Medical Center under the 8(a) Program. The commenter noted that it had been pursuing the custodial service being added to the Procurement List for several years, and that a number of its other contracts are expiring and not being replaced by new work. Consequently, the commenter believes that loss of the opportunity to win the contract for the custodial service being added to the Procurement List will constitute a severe adverse impact on the firm.

The Committee does not consider the loss of an opportunity to bid for contracts on this service, by itself, to constitute severe adverse impact on a firm, as no firm is guaranteed a contract under the competitive bidding system. The commenting firm has not held a contract for the custodial service being added to the Procurement List, so it cannot be said to be dependent on such a contract. The Committee originally contemplated adding the entire custodial service at Walter Reed Army Medical Center to the Procurement List, but declined to do so in order to minimize impact on the commenting firm. The commenter will retain its current contract at Walter Reed Army Medical Center and will remain eligible to pursue contracting opportunities in the 8(a) Program, as well as other competitive opportunities, for the near future. At the commenter's request, the Committee has facilitated discussions between the commenter and the nonprofit agency which will provide the service being added to the Procurement List, with a view toward further mitigating impact on the contractor through possible subcontracting opportunities. Accordingly, the Committee does not believe that addition of this portion of the custodial service at Walter Reed Army Medical Center to the Procurement List at this time will constitute severe adverse impact on the commenting firm.

The following material pertains to all of the items being added to the Procurement List.

After consideration of the material presented to it concerning capability of qualified nonprofit agencies to provide the product and services and impact of the additions on the current or most recent contractors, the Committee has determined that the product and services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 46-48c) in connection with the product and services proposed for addition to the Procurement List.

Accordingly, the following product and services are added to the Procurement List:

Product

Product/NSN: Marker, Dry Erase, Premium, 7520-00-NIB-1428

NPA: Dallas Lighthouse for the Blind, Inc., Dallas, Texas

Contract Activity: Office Supplies & Paper Product Acquisition Center, New York, New York

Services

Service Type/Location: Custodial Service, Walter Reed Army Medical Center, Main Section, Washington, DC, Forest Glen Section, Montgomery County, MD: Buildings 1, 5, 11, 52, 53, 92, 121, 154, 156, 163, 169, 178, 500, 501, 508, 511, 512, 601, 602, 604, and 605

NPA: Mt. Vernon-Lee Enterprises, Inc., Springfield, Virginia

Contract Activity: MEDCOM Contracting Center-NA, Washington, DC

Service Type/Location: Medical Transcription, Department of Veterans Affairs, VAMC Boise, Idaho

NPA: The Lighthouse of Houston, Houston, Texas

Contract Activity: Veterans Affairs Medical Center, Boise, Idaho

Deletions

I certify that the following action will not have a significant impact on a substantial number of small entities. The major factors considered for this certification were:

1. The action may not result in any additional reporting, recordkeeping or other compliance requirements for small entities.

2. The action may result in authorizing small entities to furnish the product and service to the Government.

3. There are no known regulatory alternatives which would accomplish the objectives of the Javits-Wagner-O'Day Act (41 U.S.C. 46-48c) in connection with the product and service deleted from the Procurement List.

After consideration of the relevant matter presented, the committee has determined that the product and service listed below are no longer suitable for procurement by the Federal Government under 41 U.S.C. 46-48c and 41 CFR 51-2.4.

Accordingly, the following product and service are deleted from the Procurement List:

Product

Product/NSN: Aerosol Paint, Lacquer, 8010-00-958-8147

NPA: The Lighthouse for the Blind, Inc., St Louis, Missouri

Contract Activity: GSA, Hardware & Appliances Center, Kansas City, Missouri

Service

Service Type/Location: Base Supply Center, New Orleans Naval Support Activity, New Orleans, Louisiana

NPA: Raleigh Lions Clinic for the Blind, Inc., Raleigh, North Carolina

Contract Activity: Department of the Navy, New Orleans, Louisiana

G. John Heyer,
General Counsel.

[FR Doc. 03-1663 Filed 1-23-03; 8:45 am]

BILLING CODE 6353-01-P